DEPARTMENT OF VETERANS AFFAIRS

[OMB Control No. 2900-New 10-21093a-c]

Agency Information Collection (A Veteran's Faith: Spirituality Influences Coping With Cancer) Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before July 22, 2009.

ADDRESSES: Submit written comments on the collection of information through http://www.Regulations.gov; or to VA's OMB Desk Officer, Office of Information and Regulatory Affairs, New Executive Office Building, Room 10235, Washington, DC 20503, (202) 395-7316. Please refer to “OMB Control No. 2900—New 10-21093a-c” in any correspondence.

FOR FURTHER INFORMATION OR A COPY OF THE SUBMISSION CONTACT: Denise McLamb, Enterprise Records Service (005R1B), Department of Veterans Affairs, 810 Vermont Avenue, NW., Washington, DC 20420, (202) 461-7485, FAX (202) 273-0443 or e-mail: denise.mclamb@mail.va.gov. Please refer to “OMB Control No. 2900-New 10-21093a-c.”

SUPPLEMENTARY INFORMATION:

Title: A Veteran's Faith: Spirituality Influences Coping With Cancer, VA Forms 10-21093a-c.

OMB Control Number: 2900—New 10-21093a-c.

Type of Review: New collection.

Abstract: VA will use the data collected to measure whether cancer patients' spiritual beliefs give them the ability to cope with the illness.

An agency may not conduct or sponsor, and a person is not required to respond to a collection of information unless it displays a currently valid OMB control number. The Federal Register Notice with a 60-day comment period soliciting comments on this collection of information was published on April 15, 2009 at pages 17553-17554.

Affected Public: Individuals or Households.

Estimated Annual Burden: 10 hours.

Estimated Average Burden per Respondent: 40.

Frequency of Response: Annually.

Dated: June 16, 2009.
By direction of the Secretary.
Denise McLamb,
Program Analyst, Enterprise Records Service.

[FR Doc. E9-14518 Filed 6-19-09; 8:45 am]

BILLING CODE 8320-01-P